DEPARTMENT OF LABOR

Employment and Training Administration

[TA-W-58,687]

Barry Controls D/I, Camden, AR; Notice of Termination of Investigation

Pursuant to section 221 of the Trade Act of 1974, as amended, an investigation was initiated on January 23, 2006 in response to a petition filed by a state workforce agent on behalf of workers at Barry Controls D/I, Camden, Arkansas.

The petitioner has requested that the petition be withdrawn. Consequently, the investigation has been terminated.

Signed at Washington, DC, this 3rd day of February, 2006.
Richard Church,
Certifying Officer, Division of Trade Adjustment Assistance.

[FR Doc. E6-2482 Filed 2-21-06; 8:45 am]

BILLING CODE 4510-30-P